DEPARTMENT OF EDUCATION

Notice of Proposed Information Collection Requests

AGENCY: Department of Education

SUMMARY: The Secretary of Education requests comments on the Free Application for Federal Student Aid (FAFSA) that the Secretary proposes to use for the 2004-2005 year. The FAFSA is completed by students and their families and the information submitted on the form is used to determine the students' eligibility and financial need for financial aid under the student financial assistance programs authorized under title IV of the Higher Education Act of 1965, as amended, (title IV, HEA Programs). The Secretary also requests comments on changes under consideration for the 2004-2005 FAFSA.

DATES: Interested persons are invited to submit comments on or before May 5, 2003.

ADDRESSES: Written comments and requests for copies of the proposed information collection requests should be addressed to Joseph Schubart, Department of Education, 600 Independence Avenue, SW., Room 5624, Regional Office Building 3, Washington, DC 20202-4651.

In addition, interested persons can access this document on the Internet:

(1) Go to IFAP at http://ifap.ed.gov;

(2) Scroll down to “Publications”;

(3) Click on “FAFSAs and Renewal FAFSAs”;

(4) Click on “By 2004-2005 Award Year”;

(5) Click on “Draft FAFSA Form/Instructions”.

Please note that the free Adobe Acrobat Reader software, version 4.0 or greater, is necessary to view this file. This software can be downloaded for free from Adobe's website: http://www.adobe.com.

SUPPLEMENTARY INFORMATION: Section 483 of the Higher Education Act of 1965, as amended (HEA), requires the Secretary, “in cooperation with agencies and organizations involved in providing student financial assistance,” to “produce, distribute and process free of charge a common financial reporting form to be used to determine the need and eligibility of a student under” the title IV, HEA Programs. This form is the FAFSA. In addition, section 483 authorizes the Secretary to include non-financial data items that assist States in awarding State student financial assistance.

The draft 2004-2005 FAFSA (posted to the IFAP website) incorporates suggestions from the community to simplify the FAFSA form, reducing the number of questions from 104 to 97. These suggestions included: Reducing the five enrollment status questions to one question; combining the two questions regarding the highest school the applicant's parents completed into one question, and removing the two questions asking if the applicant is interested in loans or work-study. The Secretary requests comments on ways to further simplify the application for students, parents, and schools.

In particular, the Secretary seeks comments on simplifying the FAFSA through use of the FAFSA on the Web product. The Secretary is considering adding capability to FAFSA on the Web to permit applicants to skip questions not required by their state of residence or for EFC determination. For example, if an applicant's state does not require question 18, enrollment status, FAFSA on the Web would not present question 18 to the applicant. The Secretary is also considering removing the early analysis option from the web application.

The Secretary is publishing this request for comment under the provisions of the Paperwork Reduction Act of 1995, 44 U.S.C. 3501 et seq. Under that Act, ED must obtain the review and approval of the Office of Management and Budget (OMB) before it may use a form to collect information. However, under procedure for obtaining approval from OMB, ED must first obtain public comment of the proposed form, and to obtain that comment, ED must publish this notice in the Federal Register.

In addition to comments requested above, to accommodate the requirements of the Paperwork Reduction Act, the Secretary is interested in receiving comments with regard to the following matters: (1) Is this collection necessary to the proper functions of the Department, (2) will this information be processed and used in a timely manner, (3) is the estimate of burden accurate, (4) how might the Department enhance the quality, utility, and clarity of the information to be collected, and (5) how might the Department minimize the burden of this collection on the respondents, including through the use of information technology.

Dated: February 28, 2003.
John D. Tressler,
Leader, Regulatory Management Group, Office of the Chief Information Officer.

Federal Student Aid

Type of Review: Revision of a currently approved collection.

Title: Free Application for Federal Student Aid (FAFSA) (JS).

Frequency: Annually.

Affected Public: Individuals or household (primary).

Reporting and Recordkeeping Hour Burden:

Responses: 13,985,297.

Burden Hours: 7,770,355.

Abstract: The FAFSA collects identifying and financial information about a student applies for title IV, Higher Education Act (HEA) Program funds. This information is used to calculate the student's expected family contribution, which is used to determine a student's financial need. The information is also used to determine the student's eligibility for grants and loans under the title IV, HEA Programs. It is further used for determining a student's eligibility for State and institutional financial aid programs.

Written requests for information should be addressed to Vivian Reese, Department of Education, 400 Maryland Avenue, SW., Room 4050, Regional Office Building 3, Washington, DC 20202-4651 or to the e-mail address Vivian.reese@ed.gov. Requests may also be faxed to 202-708-9346. Please specify the complete title of the information collection when making your request.

Comments regarding burden and/or the collection activity requirements should be directed to Joseph Schubart at his e-mail address Joe.Schubart@ed.gov. Individuals who use a telecommunications device for the deaf (TDD) may call the Federal Information Relay Service (FIRS) at 1-800-877-8339.

[FR Doc. 03-5207 Filed 3-5-03; 8:45 am]

BILLING CODE 4000-01-U